DEPARTMENT OF ENERGY

Federal Energy Regulatory Commission

Combined Notice of Filings #1

Take notice that the Commission received the following electric corporate filings:

Docket Numbers: EC19-142-000.

Applicants: Energy Center Dover LLC, DB Energy Assets, LLC.

Description: Response to December 4, 2019 Deficiency Letter of DB Energy Assets, LLC.

Filed Date: 12/27/19.

Accession Number: 20191227-5115.

Comments Due: 5 p.m. ET 1/17/20.

Docket Numbers: EC20-28-000.

Applicants: Polaris Wind Energy LLC, DTE Electric Company.

Description: Application for Authorization Under Section 203 of the Federal Power Act, et al. of Polaris Wind Energy LLC, et al.

Filed Date: 12/30/19.

Accession Number: 20191230-5256.

Comments Due: 5 p.m. ET 1/20/20.

Take notice that the Commission received the following electric rate filings:

Docket Numbers: ER10-2010-006.

Applicants: PPL Electric Utilities Corporation.

Description: Triennial Market-Based Rate Update of PPL Electric Utilities Corporation.

Filed Date: 12/31/19.

Accession Number: 20191231-5007.

Comments Due: 5 p.m. ET 3/2/20.

Docket Numbers: ER13-434-006; ER13-2100-004; ER13-2109-008; ER16-1750-005; ER16-2601-003; ER17-1604-002; ER17-2292-003; ER17-2381-002; ER19-1656-002.

Applicants: Dominion Energy Generation Marketing, Inc., Dominion Energy Nuclear Connecticut, Inc., Fowler Ridge Wind Farm LLC, Virginia Electric and Power Company, Eastern Shore Solar LLC, Summit Farms Solar, LLC, Southampton Solar LLC, Scott-II Solar LLC, Wilkinson Solar LLC.

Description: Updated Market Power Analysis for the Northeast Region of the Dominion Energy, Inc. subsidiaries.

Filed Date: 12/30/19.

Accession Number: 20191230-5259.

Comments Due: 5 p.m. ET 2/28/20.

Docket Numbers: ER17-2059-004; ER10-3097-009.

Applicants: Puget Sound Energy, Inc., Bruce Power Inc.

Description: Supplement to July 1, 2019 Updated Market Power Analysis in the Northwest Region for Puget Sound Energy, Inc., et al.

Filed Date: 12/19/19.

Accession Number: 20191219-5142.

Comments Due: 5 p.m. ET 1/9/20.

Docket Numbers: ER18-2487-001.

Applicants: Rail Splitter Wind Farm, LLC.

Description: Report Filing: Notice of Effective Date to be effective N/A.

Filed Date: 12/31/19.

Accession Number: 20191231-5066.

Comments Due: 5 p.m. ET 1/21/20.

Docket Numbers: ER19-585-001.

Applicants: Quilt Block Wind Farm LLC.

Description: Report Filing: Notice of Effective Date to be effective N/A.

Filed Date: 12/31/19.

Accession Number: 20191231-5064.

Comments Due: 5 p.m. ET 1/21/20.

Docket Numbers: ER19-708-002.

Applicants: GSG, LLC.

Description: Compliance filing: Compliance Filing Under Docket ER19-708-002 to be effective 2/26/2019.

Filed Date: 12/31/19.

Accession Number: 20191231-5104.

Comments Due: 5 p.m. ET 1/21/20.

Docket Numbers: ER20-714-000.

Applicants: Whitetail Solar 1, LLC.

Description: Baseline eTariff Filing: Reactive Power Compensation Baseline to be effective 2/29/2020.

Filed Date: 12/31/19.

Accession Number: 20191231-5047.

Comments Due: 5 p.m. ET 1/21/20.

Docket Numbers: ER20-715-000.

Applicants: Central Hudson Gas & Electric Corporation, New York Independent System Operator, Inc.

Description: § 205(d) Rate Filing: 205: Central Hudson Highway Facilities Charge Hurley Ave System to be effective 3/2/2020.

Filed Date: 12/31/19.

Accession Number: 20191231-5055.

Comments Due: 5 p.m. ET 1/21/20.

Docket Numbers: ER20-716-000.

Applicants: LS Power Grid New York Corporation I, New York Independent System Operator, Inc.

Description: § 205(d) Rate Filing: 205: LS Power Grid New York Corporation I Transmission Formula Rate to be effective 3/2/2020.

Filed Date: 12/31/19.

Accession Number: 20191231-5060.

Comments Due: 5 p.m. ET 1/21/20.

Docket Numbers: ER20-717-000.

Applicants: PJM Interconnection, L.L.C.

Description: § 205(d) Rate Filing: Revisions to OATT, Sch. 12-Appendices re: 2020 RTEP Annual Cost Allocations to be effective 1/1/2020.

Filed Date: 12/31/19.

Accession Number: 20191231-5069.

Comments Due: 5 p.m. ET 1/21/20.

Docket Numbers: ER20-718-000.

Applicants: Midcontinent Independent System Operator, Inc., Ameren Illinois Company.

Description: § 205(d) Rate Filing: 2019-12-31_SA 3410 AIC-SIPC Exclusive As-Available Service Agreement to be effective 3/1/2020.

Filed Date: 12/31/19.

Accession Number: 20191231-5073.

Comments Due: 5 p.m. ET 1/21/20.

Docket Numbers: ER20-719-000.

Applicants: PJM Interconnection, L.L.C.

Description: § 205(d) Rate Filing: Original WMPA, SA No. 5552; Queue No. AE1-013 to be effective 12/10/2019.

Filed Date: 12/30/19.

Accession Number: 20191230-5267.

Comments Due: 5 p.m. ET 1/20/20.

Docket Numbers: ER20-720-000.

Applicants: Plum Creek Wind, LLC.

Description: Baseline eTariff Filing: Application for MBR Authority to be effective 3/1/2020.

Filed Date: 12/31/19.

Accession Number: 20191231-5090.

Comments Due: 5 p.m. ET 1/21/20.

Docket Numbers: ER20-721-000.

Applicants: Willow Creek Wind Power LLC.

Description: Baseline eTariff Filing: Application for MBR Authority to be effective 3/1/2020.

Filed Date: 12/31/19.

Accession Number: 20191231-5093.

Comments Due: 5 p.m. ET 1/21/20.

Docket Numbers: ER20-722-000.

Applicants: Baconton Power LLC.

Description: § 205(d) Rate Filing: Baconton Power LLC Revised MBR Tariff to be effective 12/21/2019.

Filed Date: 12/31/19.

Accession Number: 20191231-5106.

Comments Due: 5 p.m. ET 1/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2019.
Nathaniel J. Davis, Sr.,
Deputy Secretary.

[FR Doc. 2020-00015 Filed 1-6-20; 8:45 am]

BILLING CODE 6717-01-P